INTERNATIONAL TRADE COMMISSION

[Inv. No. 337-TA-445]

In the Matter of Certain Plasma Display Panels and Products Containing Same; Notice of a Commission Determination Not To Review an Initial Determination Granting a Motion to Amend the Complaint and Notice of Investigation

AGENCY: U.S. International Trade Commission.

ACTION: Notice.

SUMMARY: Notice is hereby given that the U.S. International Trade Commission has determined not to review the presiding administrative law judge's (“ALJ's”) initial determination (“ID”) granting complainants” motion to amend the complaint and notice of investigation in the above-captioned investigation to add “components thereof” to the investigation.

FOR FURTHER INFORMATION CONTACT: Timothy P. Monaghan, Esq., Office of the General Counsel, U.S. International Trade Commission, 500 E Street, SW., Washington, DC 20436, telephone 202-205-3152. General information concerning the Commission may also be obtained by accessing its Internet server (http://www.usitc.gov). Hearing-impaired persons are advised that information on this matter can be obtained by contacting the Commission's TDD terminal on 202-205-1810. The public record for this investigation may be viewed on the Commission's electronic docket (EDIS-ON-LINE) at http://dockets.usitc.gov/eol/public.

SUPPLEMENTARY INFORMATION: The Commission instituted this investigation on January 16, 2001, based on a complaint filed by the Board of Trustees of the University of Illinois, of Urbana, Illinois, and Competitive Technologies, Inc. of Fairfield, Connecticut. The respondents named in the investigation are Fujitsu Limited, Fujitsu General Limited, Fujitsu General America Corp., Fujitsu Microelectronics, Inc. and Fujitsu Hitachi Plasma Display Ltd. (collectively “Fujitsu”). The complaint alleged that Fujitsu violated section 337 of the Tariff Act of 1930 by importing into the United States, selling for importation, and/or selling within the United States after importation certain plasma display panels and products containing same by reason of infringement of certain claims of U.S. Letters Patents Nos. 4,866,349, and 5,081,400.

On June 15, 2001, complainants moved pursuant to rule 210.14(b) to amend the complaint and notice of investigation to add “components thereof” to the complaint and notice. Fujitsu responded to the motion, but did not oppose it.

On June 21, 2001, the ALJ issued an ID granting complainants' unopposed motion. No petitions for review of the ID were filed.

The authority for the Commission's action is contained in section 337 of the Tariff Act of 1930, as amended (19 U.S.C. 1337) and in section 210.42 of the Commission's rules of practice and procedure (19 CFR 210.42).

Copies of the ID and all other nonconfidential documents filed in connection with this investigation are or will be available for inspection during official business hours (8:45 a.m. to 5:15 p.m.) in the Office of the Secretary, U.S. International Trade Commission, 500 E Street, SW., Washington, DC 20436, telephone 202-205-2000.

Issued: July 10, 2001.
By order of the Commission.
Donna R. Koehnke,
Secretary.

[FR Doc. 01-17619 Filed 7-12-01; 8:45 am]

BILLING CODE 7020-02-P